DEPARTMENT OF TRANSPORTATION

National Highway Traffic Safety Administration

49 CFR Part 571

[Docket No. NHTSA-2010-0162]

RIN 2127-AK43

Public Workshop and Hearing for Rear Visibility; Federal Motor Vehicle Safety Standard, Rearview Mirrors, Federal Motor Vehicle Safety Standard, Low-Speed Vehicles; Phase-in Reporting Requirements

AGENCY: National Highway Traffic Safety Administration (NHTSA), Department of Transportation (DOT).

ACTION: Notice of proposed rulemaking: Announcement of a public technical workshop, a public hearing and re-opening of public comment period.

SUMMARY: On December 7, 2010, NHTSA published a notice of proposed rulemaking proposing to amend the agency's Federal motor vehicle safety standard on rearview mirrors to improve the ability of a driver of a vehicle to detect pedestrians in the area immediately behind the vehicle and thereby minimize the likelihood of the vehicle striking a pedestrian while the vehicle is moving backward. NHTSA is announcing two separate public events relating to this proposal. The first event, a public technical workshop, will be held on March 11, 2011, to discuss technical issues relevant to the test procedure described in the proposed rule. The second event, a public hearing, will be held on March 23, 2011 to provide an opportunity for the public to present oral testimony regarding the proposal. The dates, times, locations, and framework for these public events are announced in this notice. In order to facilitate the submission of written comments in connection with these two events, the comment period for the proposed rule will be reopened for a period of 45 days. In a separate document appearing in today's edition of the Federal Register, the agency is correcting various minor errors regarding metric conversions, section cross references and other matters.

DATES: Workshop: NHTSA will hold the public technical workshop on March 11, 2011, beginning at 9 a.m. and continuing until 12 p.m., local time, at the location indicated in the ADDRESSES section below.

Public hearing: The public hearing will be held on March 23, 2011, beginning at 9 a.m. and continuing until 3 p.m. at the location indicated in the ADDRESSES section below. If you would like to present oral testimony at either of these public events, please contact the person identified under FOR FURTHER INFORMATION CONTACT, at least 5 days before the meeting.

Comments: The comment period for the proposed rule published December 7, 2010, at 75 FR 76186 is reopened. Comments will be accepted until April 18, 2011.

ADDRESSES: The March 11 public technical workshop will be held at the National Highway Traffic Safety Administration Vehicle and Research Test Center, 10820 State Route 347—Bldg. 60, East Liberty, Ohio 43319.

The March 23 public hearing will be held in the media center at the Department of Transportation West Building, 1200 New Jersey Ave., SE., Washington, DC 20590.

FOR FURTHER INFORMATION CONTACT: If you would like to present oral testimony at either of these public events, please contact Mr. Markus Price at DOT by the date specified under DATES, at: Office of Crash Avoidance, Visibility and Injury Prevention Division, NHTSA, 1200 New Jersey Ave., SE., Washington, DC 20590; telephone number: (202) 366-0098; fax number: (202) 493-2990; e-mail address: markus.price@dot.gov (preferred method of registration).

Please provide the following information: The event at which you would like to speak; the time you wish to speak (morning or afternoon) at the hearing; your name and affiliation and the number of the individuals from your affiliation who are planning to attend; your address, e-mail address, telephone and fax numbers; and any accommodations you may need, such as a sign language interpreter.

SUPPLEMENTARY INFORMATION: The proposed rule would expand the required field of view for all passenger cars, trucks, multipurpose passenger vehicles, buses, and low-speed vehicles rated at 10,000 pounds or less, gross vehicle weight, as specified in the Cameron Gulbransen Kids Transportation Safety Act of 2007 (75 FR 76186). NHTSA's proposal would specify an area immediately behind each vehicle and require that the driver must be able to see that area when the vehicle's transmission is in reverse, thereby minimizing the likelihood of a vehicle striking a pedestrian while performing a backing maneuver. The agency is announcing two separate public events to obtain additional public input related to this proposal. In a separate document appearing elsewhere in today's edition of the Federal Register, the agency is correcting various minor errors regarding metric conversions, section cross references and other matters.

The purpose of the first public event, a public technical workshop, is to provide interested parties an opportunity to discuss technical issues relevant to the test procedure. We are holding the workshop after our preliminary evaluation of comments suggests that various test procedure comments could be better presented using a “hands-on” approach. The workshop will be held in a lab environment. The agency will provide a vehicle and various test equipment to aid parties in demonstrating compliance testing concerns relevant to the proposed rule.

The purpose of the second meeting, a public hearing, is to provide the public with an opportunity to present oral comments regarding NHTSA's proposal. The agency wants to give the public this additional opportunity to express their views on effective ways of meeting the mandate in the Cameron Gulbransen Kids Transportation Safety Act.

Technical Workshop Procedures

To ensure that all interested persons have the benefit of the discussions at the workshop, we will arrange for a written transcript of the workshop. It will be placed in the public docket for this rulemaking. You may make arrangements for copies of the transcript directly with the court reporter.

Because the technical workshop will be located in a lab environment, NHTSA requests that the number of those attending from each affiliation be held to a minimum. For security purposes, photo identification is required to enter NHTSA's vehicle research test center.

Public Hearing Procedures

Once NHTSA establishes how many people have registered to speak at the public hearing, it will allocate an appropriate amount of time to each participant, allowing time for necessary breaks. In addition, we will reserve a block of time for anyone else in the audience who wants to give testimony. For planning purposes, each speaker should anticipate speaking for approximately ten minutes, although we may need to shorten that time if there is a large turnout. We will accommodate your requested presentation time to the extent we can, consistent with the other requests we receive. We request that you bring three copies of your statement or other material so that it can be placed into the docket.

To accommodate as many speakers as possible, we prefer that speakers not use technological aids (e.g., audio-visuals, computer slideshows). However, if you plan to do so, you must notify the contact person in the FOR FURTHER INFORMATION CONTACT section above in advance of the meeting and make advance arrangements with that person regarding the use of any aids in order to facilitate set-up.

NHTSA will conduct the public hearing informally; thus, technical rules of evidence will not apply. Panel members may ask clarifying questions during the oral presentations, but will not respond to presentations at that time. We will arrange for a written transcript of the meeting. You may make arrangements for copies of the transcripts directly with the court reporter.

This meeting will be held in the media room at the Department of Transportation West Building. Therefore, each participant must register with building security personnel and be escorted to the meeting room by the contact person in the FOR FURTHER INFORMATION CONTACT section, or someone delegated by him for this purpose. Please arrive at the security desk sufficiently in advance of the expected time of your presentation to allow for the time necessary to obtain security clearance. The length of time will depend on the size of the audience seeking to attend the meeting.

Public Comments

Persons wishing to submit written comments related to the proposal or either public event may do so on or before the new comment closing date announced in this document. The agency will consider all comments received before the close of business on the new comment closing date announced in the DATES section of this preamble. The comments will be available for examination in the docket at the above address both before and after that date.

To minimize the interval between the issuance of the final rule and the original statutory deadline, the agency does not expect to be able to consider any late comments. Rulemaking action may proceed at any time after the comment due date. Any comments received after the closing date and too late for consideration in regard to the action will be treated as suggestions for future rulemaking.

The NHTSA will continue to file relevant material as it becomes available in the docket after the closing date. It is recommended that interested persons continue to examine the docket for new material.

Those persons desiring to be notified upon receipt of their comments in the public docket should enclose, in the envelope with their comments, a self-addressed stamped postcard. Upon receiving the comments, the docket supervisor will return the postcard by mail.

Issued on: February 24, 2011.
Joseph S. Carra,
Acting Associate Administrator for Rulemaking.

[FR Doc. 2011-4736 Filed 2-28-11; 11:15 am]

BILLING CODE 4910-59-P